ENVIRONMENTAL PROTECTION AGENCY

[EPA-HQ-OA-2023-0393; FRL—11236-01-OA]

Agency Information Collection Activities; Proposed Information Collection Request; Comment Request; GGRF Accomplishment Reporting

AGENCY: Environmental Protection Agency (EPA).

ACTION: Notice.

SUMMARY: The Environmental Protection Agency (EPA) is planning to submit an information collection request (ICR), Greenhouse Gas Reduction Fund (GGRF) Accomplishment Reporting (EPA ICR Number 2783.01, OMB Control Number 2090-NEW) to the Office of Management and Budget (OMB) for review and approval in accordance with the Paperwork Reduction Act (PRA). Before doing so, EPA is soliciting public comments on specific aspects of the proposed information collection as described below. This is a request for approval of a new collection. This notice allows for 60 days for public comments.

DATES: Comments must be submitted on or before October 13, 2023.

ADDRESSES: Submit your comments, referencing Docket ID Number EPA-HQ-OA-2023-0393, to EPA online using www.regulations.gov (our preferred method), by email to Docket_OMS@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Frank Wright, GGRF Program Office, Office of the Administrator, Environmental Protection Agency, 1200 Pennsylvania Ave. NW, Washington, DC 20460; telephone number: 202-564-7631; email address: ggrf@epa.gov.

SUPPLEMENTARY INFORMATION: This is a request for approval of a new collection. An agency may not conduct or sponsor and a person is not required to respond to a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit https://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register notice to announce the submission of the ICR to OMB and the opportunity to submit additional comments to OMB.

Abstract: This ICR covers the collection of information from those organizations that receive grants funding from the Environmental Protection Agency (EPA) under the authority of section 134 of the Clean Air Act (CAA). CAA 134 was enacted as part of the Inflation Reduction Act (IRA) and authorizes EPA to make competitive grants to States, municipalities, Tribal governments, and eligible non-profit recipients to implement the Greenhouse Gas Reduction Fund, a historic $27 billion investment to combat the climate crisis by mobilizing financing and private capital for greenhouse gas- and air pollution-reducing projects in communities across the country. Through the GGRF program, EPA is conducting three competitions. This ICR covers the collection of information under awards for all three competitions. EPA will use information from these reports as part of program-wide public reporting, except to the extent such information includes CBI or PII pursuant to 2 CFR 200.338. Information claimed as CBI in accordance with this Notice will be disclosed only to the extent, and by means of the procedures, set forth in 40 CFR part 2, subpart B.

Form Numbers: None.

Respondents/affected entities: Grantees, or organizations that receive grants funding from the Environmental Protection Agency (EPA) under the authority of section 134 of the Clean Air Act (CAA). CAA 134 was enacted as part of the Inflation Reduction Act (IRA) and authorizes EPA to make competitive grants to States, municipalities, Tribal governments, and eligible non-profit recipients to implement the Greenhouse Gas Reduction Fund.

Respondent's obligation to respond: required to obtain or retain a benefit under section 134 of the Clean Air Act (CAA).

Estimated number of respondents: As of this writing burden estimates are not available. This data will be available for the next public review period.

Frequency of response: As of this writing burden estimates are not available. This data will be available for the next public review period.

Total estimated burden: As of this writing burden estimates are not available. This data will be available for the next public review period.

Total estimated cost: As of this writing burden estimates are not available. This data will be available for the next public review period.

Changes in the Estimates: This is a new collection therefore there is no change in burden.

Jahi Wise,
Senior Advisor to the Administrator and Acting Director of the Greenhouse Gas Reduction Fund.

[FR Doc. 2023-17202 Filed 8-11-23; 8:45 am]

BILLING CODE 6560-50-P